DEPARTMENT OF THE INTERIOR

Bureau of Land Management

[AA-6648-E, AA-6648-G, AA-6648-K, AA-6648-O; AK-964-1410-KC-P]

Alaska Native Claims Selection

AGENCY: Bureau of Land Management, Interior.

ACTION: Notice of decision approving lands for conveyance.

SUMMARY: As required by 43 CFR 2650.7(d), notice is hereby given that an appealable decision approving the surface estate of certain lands for conveyance pursuant to the Alaska Native Claims Settlement Act will be issued to Aleknagik Natives Limited. The lands are in the vicinity of Aleknagik, Alaska, and are located in:

Seward Meridian, Alaska

T. 8 S., R. 53 W.,

Sec. 13, lots 1 to 6, inclusive, SW1/4NE1/4, W1/2, SE1/4;

Secs. 24, and 25.

Containing 1,913.89 acres as shown on the plat of survey officially filed on March 30, 1987.

T. 8 S., R. 55 W.,

Secs. 16, 17 and 18;

Secs. 20 and 21.

Containing 2,537.69 acres as shown on the plat of survey officially filed on January 11, 1973, the plat of supplemental survey officially filed September 20, 1991 and the plat of dependent resurvey officially filed on March 4, 2009.

T. 9 S., R. 55 W.,

Secs. 10 and 15;

Sec. 17, those lands formally within Native Allotment Application AA-7301;

Secs. 19;

Sec. 20, lots 1 and 2;

Secs. 22 and 27;

Secs. 29 to 32, inclusive;

Sec. 34.

Containing 6,915.08 acres as shown on the plat of survey officially filed on January 11, 1973, the plat of supplemental survey officially filed on October 23, 2006, and the plat of dependent resurvey officially filed February 13, 2009.

T. 8 S., R. 56 W.,

Sec. 13.

Containing 550.39 acres as shown on the plat of survey officially filed on January 11, 1973, the plat of supplemental survey officially filed November 21, 1991 and the plat of dependent resurvey officially filed on February 13, 2009.

T. 8 S., R. 57 W.,

Sec. 27, those lands formally within Native Allotment Application AA-7301.

Containing 40 acres as shown on the plat of survey officially filed on January 11, 1973, the plats of supplemental survey officially filed August 16, 1991 and October 3, 2006, respectively.

Aggregating 11,957.05 acres.

The subsurface estate in these lands will be conveyed to Bristol Bay Native Corporation when the surface estate is conveyed to Aleknagik Natives Limited. Notice of the decision will also be published four times in the Bristol Bay Times.

DATES: The time limits for filing an appeal are:

1. Any party claiming a property interest which is adversely affected by the decision shall have until July 20, 2009 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Jason Robinson,
Land Law Examiner, Land Transfer Adjudication I.

[FR Doc. E9-14406 Filed 6-18-09; 8:45 am]

BILLING CODE 4310-JA-P